DEPARTMENT OF COMMERCE

National Oceanic and Atmospheric Administration

Federal Consistency Appeal by Broadwater Energy LLC and Broadwater Pipeline LLC

AGENCY: National Oceanic and Atmospheric Administration (NOAA), Department of Commerce (Commerce).

ACTION: Notice of closure—administrative appeal decision record.

SUMMARY: This announcement provides notice that the decision record has closed for an administrative appeal filed with the Department of Commerce by Broadwater Energy LLC and Broadwater Pipeline LLC (collectively, “Broadwater”).

DATES: The decision record for Broadwater's administrative appeal closed on February 13, 2009.

ADDRESSES: Materials from the appeal record are available at the NOAA Office of General Counsel for Ocean Services, 1305 East-West Highway, Room 6111, Silver Spring, MD 20910 and on the following Web site: http://www.ogc.doc.gov/czma.htm.

FOR FURTHER INFORMATION CONTACT: Jamon Bollock, Attorney-Advisor, NOAA Office of the General Counsel, 301-713-2967, NOAA Office of the General Counsel, 301-713-2967, gcos.inquiries@noaa.gov.

SUPPLEMENTARY INFORMATION: On June 6, 2008, Broadwater filed notice of an appeal with the Secretary of Commerce (Secretary), pursuant to the Coastal Zone Management Act of 1972 (CZMA), 16 U.S.C. 1451 et seq., and implementing regulations found at 15 CFR part 930, subpart H. Broadwater appealed an objection by the State of New York to its proposed construction of a liquefied natural gas (“LNG”) terminal, sendout pipeline, and appurtenant facilities in the New York state waters of Long Island Sound.

Decisions for CZMA administrative appeals are based on information contained in a decision record. Under the CZMA, the decision record must close no later than 220 days after notice of the appeal was first published in the Federal Register. See 16 U.S.C. 1465. Consistent with this deadline, the Broadwater appeal decision record closed on February 13, 2009. No further information or briefs will be considered in deciding this appeal.

Additional information about the Broadwater appeal and the CZMA appeals process is available from the Department of Commerce CZMA appeals Web site http://www.ogc.doc.gov/czma.htm.

(Federal Domestic Assistance Catalog No. 11.419 Coastal Zone Management Program Assistance.)

Dated: March 6, 2009.
Joel La Bissonniere,
Assistant General Counsel for Ocean Services, National Oceanic and Atmospheric Administration.

[FR Doc. E9-5509 Filed 3-12-09; 8:45 am]

BILLING CODE 3510-22-P